DEPARTMENT OF ENERGY

Federal Energy Regulatory Commission

[Docket No. IC19-10-000]

Commission Information Collection Activities (FERC-912); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection FERC-912 (PURPA Section 210(m) Notification Requirements Applicable to Cogeneration and Small Power Production Facilities) and submitting the information collection to the Office of Management and Budget (OMB) for review. Any interested person may file comments directly with OMB and should address a copy of those comments to the Commission as explained below. On January 31, 2019, the Commission published a Notice in the Federal Register in Docket No. IC19-10-000 requesting public comments. The Commission received no public comments and is noting that in the related submittal to OMB.

DATES: Comments on the collection of information are due May 9, 2019.

ADDRESSES: Comments filed with OMB, identified by OMB Control No. 1902-0225, should be sent via email to the Office of Information and Regulatory Affairs: oira_submission@omb.gov. Attention: Federal Energy Regulatory Commission Desk Officer.

A copy of the comments should also be sent to the Commission, in Docket No. IC19-10-000, by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-912, PURPA Section 210(m) Notification Requirements Applicable to Cogeneration and Small Power Production Facilities.

OMB Control No.: 1902-0237.

Type of Request: Three-year extension of the FERC-912 information collection requirements with no changes to the current reporting and recordkeeping requirements.

Abstract: On 8/8/2005, the Energy Policy Act of 2005 (EPAct 2005) ¹ was signed into law. Section 1253(a) of EPAct 2005 amends Section 210 of the Public Utility Regulatory Policies Act of 1978 (PURPA) by adding subsection “(m),” that provides, based on a specified showing, for the termination and subsequent reinstatement of an electric utility's obligation to purchase from, and sell energy and capacity to, qualifying facilities (QFs). 18 CFR 292.309-292.313 are the implementing regulations, and provide procedures for:

¹ Public Law 109-58, 119 Stat. 594 (2005).

• An electric utility to file an application for the termination of its obligation to purchase energy and capacity from, or sell to, a QF; ² and

² 18 CFR 292.310 and 292.312.

• An affected entity or person to subsequently apply to the Commission for an order reinstating the electric utility's obligation to purchase energy and capacity from, or sell to, a QF.³

³ 18 CFR 292.311 and 292.313.

Type of Respondent: Electric utilities, principally.

Estimate of Annual Burden: ⁴ The Commission estimates the annual burden and cost, as follows.⁵

⁴ “Burden” is the total time, effort, or financial resources expended by persons to generate, maintain, retain, or disclose or provide information to or for a Federal agency. For further explanation of what is included in the information collection burden, refer to Title 5 Code of Federal Regulations 1320.3.

⁵ The Commission staff believes the FERC FTE (full-time equivalent) average salary plus benefits is representative of wages for the industry respondents. The FERC 2018 average salary plus benefits for one FERC FTE is $164,820/year (or $79.00/hour). (This is an update to the cost figures used in the 60-day Notice.)

FERC-912, PURPA Section 210(m) Notification Requirements Applicable to Cogeneration and Small Power Production Facilities
| Number of respondents | Number of responses per respondent | Total number of responses | Average burden hrs. & average cost per response ($) | Total annual burden hrs. & total annual cost ($) | Cost per respondent ($)
| (1) | (2) | (1) × (2) = (3) | (4) | (3) × (4) = (5) | (5) ÷ (1) = (6)
Termination of obligation to purchase | 7 | 1 | 7 | 12 hrs.; $948 | 84 hrs.; $6,636 | $948
Reinstatement of obligations to purchase | 0 | 0 | 0 | 0 hrs.; $0 | 0 hrs.; $0 | 0
Termination of obligation to sell | 2 | 1 | 2 | 8 hrs.; $632 | 16 hrs.; $1,264 | 632
Reinstatement of obligation to sell | 0 | 0 | 0 | 0 hrs.; $0 | 0 hrs.; $0 | 0
Total |  |  |  |  | 100 hrs.; $7,900 | 1,580

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 3, 2019.
Nathaniel J. Davis, Sr.,
Deputy Secretary.

[FR Doc. 2019-06975 Filed 4-8-19; 8:45 am]

BILLING CODE 6717-01-P